DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: Effective Dates: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, flood insurance, reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
FLORIDA
Leon County (FEMA Docket No. D-7562)
Alford Arm Tributary:
Approximately 500 feet downstream of State Route 146 | *66
At downstream side of Thomasville Road | *92
Leon County (Unincorporated Areas), City of Tallahassee |
Northeast Drainage Ditch:
Approximately 100 feet upstream of Weems Road | *52
Approximately 1 mile upstream of Lonnbladh Road | *126
City of Tallahassee |
McCord Park Pond Drainage Ditch:
At the confluence with Northeast Drainage Ditch | *69
Approximately 1,350 feet upstream of the confluence with Northeast Drainage Ditch | *69
City of Tallahassee |
Park Avenue Ditch:
At the confluence with Northeast Drainage Ditch | *59
At the CSX Transportation | *66
City of Tallahassee |
Royal Oaks Creek:
At the confluence with Lake Kinsale | *81
At a point approximately 680 feet upstream of Foxcroft Drive | *90
City of Tallahassee |
Goose Pond Tributary:
At the confluence with Goose Pond | *76
Approximately 0.80 mile upstream of the confluence with Goose Pond | *120
City of Tallahassee |
Northeast Drainage Ditch Tributary 1:
At the confluence with Northeast Drainage Ditch | *91
At the downstream side of Oleson Road | *137
City of Tallahassee |
Northeast Drainage Ditch Tributary 2:
At the confluence with Northeast Drainage Ditch | *60
Approximately 250 feet upstream of Brewster Drive | *110
City of Tallahassee |
CMC Pond:
Entire shoreline within community | *103
City of Tallahassee |
Phillips Road Pond:
Entire shoreline within community | *95
City of Tallahassee |
Harriman Circle Pond:
Entire shoreline within community | *86
City of Tallahassee |
Ponding Area 282-1:
Entire shoreline within community | *136
City of Tallahassee |
Ponding Area 301-1:
Entire shoreline within community | *144
Leon County (Unincorporated Areas), City of Tallahassee |
Ponding Area 301-2:
Entire shoreline within community | *141
City of Tallahassee |
Ponding Area 301-3:
Entire shoreline within community | *143
City of Tallahassee |
Ponding Area 301-4:
Entire shoreline within community | *162
Leon County (Unincorporated Areas), City of Tallahassee |
Ponding Area 301-5:
Entire shoreline within community | *180
City of Tallahassee |
Ponding Area 301-6:
Entire shoreline within community | *85
City of Tallahassee |
Ponding Area 301-7:
Entire shoreline within community | *109
Ponding Area 303-1:
Entire shoreline within community | *91
City of Tallahassee |
Ponding Area 303-2:
Entire shoreline within community | *110
City of Tallahassee |
Northeast Drainage Ditch Overland Flow:
At Lonnbladh Road | *96
Approximately 4,150 feet upstream of Lonnbladh Road | *122
City of Tallahassee |
East Drainage Ditch:
Approximately 0.6 mile upstream of the confluence with Munson Slough | *40
Approximately 800 feet upstream of Apakin Nene Road | *142
Leon County (Unincorporated Areas), City of Tallahassee |
West Drainage Ditch:
At Mabry Street | *53
Approximately 50 feet upstream of New Quincy Highway | *61
Leon County (Unincorporated Areas), City of Tallahassee |
Gum Creek:
At the confluence with West Drainage Ditch | *55
At the confluence with North Branch Gum Creek | *58
Leon County (Unincorporated Areas), City of Tallahassee |
North Branch Gum Creek:
At the confluence with Gum Creek | *58
At Gum Road | *59
Leon County (Unincorporated Areas) |
West Branch Gum Creek:
At the confluence with Gum Creek | *58
Just upstream of CSX Transportation | *59
Leon County (Unincorporated Areas) |
Leon County (Unincorporated Areas)
Maps available for inspection at the Leon County Courthouse, 301 South Monroe Street, Tallahassee, Florida.
City of Tallahassee
Maps available for inspection at the Tallahassee City Hall, 300 South Adams Street, Tallahassee, Florida.
MINNESOTA
City of Minneapolis (Hennepin County) (FEMA Docket No. D-7592)
Mississippi River:
Approximately 2,100 feet downstream of confluence of Minnehaha Creek | *714
Downstream of Lock and Dam No. 1 | *716
City of Minneapolis |
Minnehaha Creek:
At confluence with Mississippi River | *715
Approximately 2,450 feet upstream of confluence with the Mississippi River | *715
City of Minneapolis |
City of Minneapolis
Maps available for inspection at the Minneapolis City Hall, Public Works Office, 350 South Fifth Street, Minneapolis, Minnesota.
NORTH CAROLINA
Edgecombe County (Unincorporated Areas) (FEMA Docket Nos. D-7554 and D-7570)
Beaverdam Branch:
At the confluence with Cokey Swamp | •59
Approximately 0.8 mile upstream of McKendree Church Road | •73
Edgecombe County (Unincorporated Areas) |
Cokey Swamp:
Approximately 1,100 feet upstream of Davistown-Mercer Road | •57
Approximately 1.1 miles downstream of the confluence with Little Cokey Swamp | •77
Edgecombe County (Unincorporated Areas) |
Corn Creek:
At the confluence with Town Creek | •61
Approximately 1.2 miles upstream of Temperance Hall Road | •104
Edgecombe County (Unincorporated Areas) |
Deloach Branch:
At the confluence with Cokey Swamp | •70
Approximately 0.7 mile upstream of the confluence with Cokey Swamp | •72
Edgecombe County (Unincorporated Areas) |
Dickson Branch:
At the confluence with Cokey Swamp | •73
Approximately 0.8 mile upstream of the confluence with Cokey Swamp | •78
Edgecombe County (Unincorporated Areas) |
Fishing Creek:
Approximately 0.8 mile upstream of the confluence with Deep Creek | •48
At the downstream side of Rail Road | •96
Edgecombe County (Unincorporated Areas) |
Little Cokey Swamp:
Approximately 0.4 mile upstream of the confluence with Cokey Swamp | •82
Approximately 50 feet downstream of Green Pasture Road | •92
Edgecombe County (Unincorporated Areas) |
Longs Mill Run:
At the Edgecombe/Pitt County boundary | •95
Approximately 1.1 miles upstream of the Edgecombe/Pitt County boundary | •107
Edgecombe County (Unincorporated Areas) |
Maple Swamp:
Approximately 575 feet downstream of NC Highway 97 | •52
Approximately 0.7 mile downstream of Bethlehem Church Road | •60
Edgecombe County (Unincorporated Areas) |
Millpond Branch:
At the confluence with Cokey Swamp | •66
Approximately 0.6 mile upstream of the confluence with Cokey Swamp | •70
Edgecombe County (Unincorporated Areas) |
Moccasin Swamp:
Approximately 0.5 mile upstream of confluence with Swift Creek | •75
Approximately 800 feet downstream of Morning Star Church Road | •75
Edgecombe County (Unincorporated Areas) |
Otter Creek:
Approximately 1,000 feet downstream of the confluence with Otter Creek Tributary | •47
Approximately 0.7 mile upstream of Lewis Road | •91
Edgecombe County (Unincorporated Areas) |
Otter Creek Tributary:
At the County boundary | •48
Approximately 2.2 miles upstream of the County boundary | •65
Edgecombe County (Unincorporated Areas) |
Sasnett Mill Branch:
At the confluence with Cokey Swamp | •58
Approximately 300 feet upstream of Kent Road | •64
Edgecombe County (Unincorporated Areas) |
Town Creek:
Approximately 150 feet upstream of State Route 43 | •59
Approximately 550 feet upstream of the County boundary | •73
Edgecombe County (Unincorporated Areas) |
Williamson Branch:
At the confluence with Town Creek | •70
Approximately 2.3 miles upstream of the confluence with Town Creek | •82
Edgecombe County (Unincorporated Areas) |
Buck Swamp:
At confluence with Tar River | •66
Approximately 1,750 feet upstream of Melton Road | •78
Edgecombe County (Unincorporated Areas) |
Walnut Creek:
At confluence with Tar River | •60
Approximately 0.7 mile upstream of Alternate Route 64 | •68
Edgecombe County (Unincorporated Areas) |
Tar River:
At the Edgecombe County boundary | •37
At the City of Rocky Mount Extraterritorial Jurisdiction limits | •71
Edgecombe County (Unincorporated Areas) |
Beech Branch:
At the confluence with the Tar River | •63
At the City of Rocky Mount Extraterritorial Jurisdiction limits | •88
Edgecombe County (Unincorporated Areas) |
White Oak Swamp:
At confluence with Swift Creek | •61
Approximately 1.0 mile upstream of Speight's Chapel Road | •107
Edgecombe County (Unincorporated Areas) |
Raccoon Branch:
At the confluence with Penders Mill Run | •70
Approximately 350 feet upstream of CSX Railroad | •88
Edgecombe County (Unincorporated Areas) |
Penders Mill Run:
At the confluence with Tar River | •53
Approximately 1.4 miles upstream of Taylor Drive | •90
Edgecombe County (Unincorporated Areas) |
Key Branch:
At confluence with Tar River | •58
Approximately 1,160 feet upstream of confluence with Tar River | •62
Edgecombe County (Unincorporated Areas) |
Maple Swamp:
At confluence with Fishing Creek | •51
Approximately 760 feet upstream of O'Neal Road | •76
Edgecombe County (Unincorporated Areas) |
Leggett Canal:
Approximately 0.5 mile upstream of confluence with Swift Creek | •56
Approximately 1,525 feet upstream of State Route 30 | •69
Town of Leggett |
Tar River Tributary:
At confluence with Tar River | •50
Approximately 1.0 mile downstream of confluence with Tar River | •50
Edgecombe County (Unincorporated Areas), Town of Tarboro |
Holly Creek:
Just upstream of confluence with Hendricks Creek | •45
Approximately 0.4 mile upstream of U.S. Route 64 | •105
Town of Tarboro |
Tributary A to Hendricks Creek:
Approximately 150 feet upstream of confluence with Hendricks Creek | •48
At Speight Forest Drive | •77
Town of Tarboro |
Hendricks Creek:
At confluence with Tar River | •45
Approximately 1.06 miles upstream of Industrial Parkway | •75
Town of Tarboro |
East Tarboro Canal:
At confluence with Tar River | •45
Approximately 700 feet upstream of Forest Acres Drive | •55
Town of Tarboro |
Cheeks Mill Creek:
At confluence with Tar River | •37
Approximately 700 feet downstream of Britt Farm Road | •42
Edgecombe County (Unincorporated Areas) |
Conetoe Creek:
Approximately 100 feet downstream of the County boundary | •42
Approximately 400 feet upstream of North Bowers Road | •76
Edgecombe County (Unincorporated Areas) |
NC 42 Canal:
At confluence with Conetoe Creek | •42
Approximately 1,150 feet upstream of Highway 64A | •47
Edgecombe County (Unincorporated Areas), Town of Conetoe |
Crisp Creek:
At confluence with Conetoe Creek | •48
At County boundary | •61
Edgecombe County (Unincorporated Areas) |
Fountain Fork Creek:
At confluence with Conetoe Creek | •57
Approximately 1.0 mile upstream of Route 142 | •73
Edgecombe County (Unincorporated Areas) |
Moore Swamp:
At the confluence with Maple Swamp | •58
Approximately 250 feet downstream of Draughn Road | •61
Edgecombe County (Unincorporated Areas) |
Deep Creek:
Approximately 0.7 mile upstream of Dickens Road | •53
Approximately 0.6 mile upstream of County boundary | •62
Edgecombe County (Unincorporated Areas), Town of Speed |
Deep Creek Tributary 2:
At confluence with Deep Creek | •57
Approximately 500 feet downstream of Dickens Road | •60
Edgecombe County (Unincorporated Areas) |
Savage Mill Run:
At the upstream side of CSX Railroad | •58
Approximately 0.8 mile upstream of Mill Pond Road | •74
Edgecombe County (Unincorporated Areas), Town of Speed
Speed Levee Ponding Area:
Ponding behind Speed Levee | •51
Edgecombe County (Unincorporated Areas), Town of Speed |
Princeville Ponding Area:
Ponding behind Princeville Levee | •35
Edgecombe County (Unincorporated Areas)
Maps available for inspection at Edgecombe County (Unincorporated Areas) Planning Department, 201 Saint Andrews Street, Tarboro, North Carolina.
Town of Conetoe
Maps available for inspection at the Conetoe Town Hall, 204 West Church Street, Conetoe, North Carolina.
Town of Leggett
Maps available for inspection at the Leggett Town Hall, Route 2, Tarboro, North Carolina.
Town of Princeville
Maps available for inspection at the Princeville Town Hall, Planning Office, 310 Mutual Boulevard, Princeton, North Carolina.
Town of Speed
Maps available for inspection at the Speed Town Hall, 200 Railroad Street, Speed, North Carolina.
Town of Tarboro
Maps available for inspection at the Tarboro Town Hall, Planning Department, 500 Main Street, Tarboro, North Carolina.
SOUTH CAROLINA
Florence County (FEMA Docket No. D-7598)
Lynches River:
Approximately 0.8 mile upstream of North Jones Road and U.S. Highway 301 | *99
Approximately 800 feet downstream of Interstate Highway 95 | *119
Florence County (Unincorporated Areas) |
Sparrow Swamp:
Just upstream of W. J. Albert Sims Street | *126
Approximately 1,100 feet upstream of W. J. Albert Sims Street | *126
Town of Timmonsville |
Middle Swamp:
State Highway 51/Pamplico Highway | *79
Approximately 0.70 mile upstream of State Highway 51/Pamplico Highway | *80
Florence County (Unincorporated Areas), City of Florence |
Jeffries Creek:
Approximately 2,890 feet downstream of the confluence of Pye Branch | *80
Approximately 1,200 feet downstream of South Cashua Drive | *95
Florence County (Unincorporated Areas), City of Florence |
Florence County (Unincorporated Areas)
Maps available for inspection at the Florence County Planning Department, 218 West Evans Street, Florence, South Carolina.
City of Florence
Maps available for inspection at the City of Florence Department of Community Services, Drawer AA City-County Complex, 180 North Irby Street, Florence, South Carolina.
Town of Timmonsville
Maps available for inspection at the Timmonsville Town Hall, 115 East Main Street, Timmonsville, South Carolina.

(Catalog of Federal Domestic Assistance No. 83.100, “Flood Insurance”)
Dated: February 18, 2005.
David I. Maurstad,
Acting Director, Mitigation Division, Emergency Preparedness and Response Directorate.

[FR Doc. 05-3774 Filed 2-25-05; 8:45 am]

BILLING CODE 9110-12-P